COMMITTEE FOR THE IMPLEMENTATION OF TEXTILE AGREEMENTS

Determination under the Textile and Apparel Commercial Availability Provision of the Dominican Republic-Central America-United States Free Trade Agreement (CAFTA-DR Agreement)

February 15, 2007.

AGENCY: Committee for the Implementation of Textile Agreements (CITA).

ACTION: Determination to add a product in unrestricted quantities to Annex 3.25 of the CAFTA-DR Agreement

EFFECTIVE DATE: February 22, 2007.

SUMMARY: The Committee for the Implementation of Textile Agreements (CITA) has determined that certain two-way stretch woven fabric of polyester, rayon, and elastomeric yarns, as specified below, are not available in commercial quantities in a timely manner in the CAFTA-DR countries. The product will be added to the list in Annex 3.25 of the CAFTA-DR Agreement in unrestricted quantities.

FOR FURTHER INFORMATION CONTACT: Richard Stetson, Office of Textiles and Apparel, U.S. Department of Commerce, (202) 482 2582.

FOR FURTHER INFORMATION ON-LINE: http://web.ita.doc.gov/tacgi/CaftaReqTrack.nsf. Reference number: 18.2007.01.17.Fabric.Alston& BirdforGlenRiverTrading.

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(56), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On February 23, 2006, CITA published interim procedures it would follow in considering requests to modify the Annex 3.25 list (71 FR 9315).

On January 17, 2007, the Chairman of CITA received a commercial availability request from Alston & Bird, LLP, on behalf of Glen River Trading, for certain two-way stretch woven fabrics of polyester, rayon, and elastomeric yarns, of the specifications detailed below. On January 19, 2007, CITA notified interested parties of, and posted on its website, the accepted petition and requested that interested entities provide, by January 31, 2007, a response advising of its objection to the commercial availability request or its ability to supply the subject product. CITA also explained that rebuttals to responses were due to CITA by February 6, 2007.

No interested entity filed a response advising of its objection to the request or its ability to supply the subject product.

In accordance with Section 203(o)(4)(C) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities.

Specifications:

HTS Subheading: | 5515.11.10
Fiber content: | 58 to 68 percent polyester; 29 to 36 percent rayon; 3 to 7 percent spandex
Staple length (where applicable): | 4.44 to 6.99 centimeters
Yarn number: | (two configurations):
| Configuration # 1: (metric) Warp and filling: 51/2 to 85/2 polyester/rayon staple combined with 44 to 77 decitex spandex filament
| Configuration # 2: (metric) Warp and filling: 51/1 to 85/1 polyester/rayon staple combined with 44 to 77 decitex spandex filament
Thread count: | 27 to 47 warp ends by 24 to 39 filling picks per centimeter
Weave type: | Various (including plain and twill)
Weight: | 203 to 339 grams per square meter
Width: | 122 to 152 centimeters
Finish: | Dyed and of yarns of different colors

R. Matthew Priest,
Chairman, Committee for the Implementation of Textile Agreements.

[FR Doc.07-793 Filed 2-16-07; 2:26 am]

BILLING CODE 3510-DS